DEPARTMENT OF THE TREASURY

Internal Revenue Service

26 CFR Part 301

Alcohol and Tobacco Tax and Trade Bureau

27 CFR Part 70

[REG-110519-25]

RIN 1545-BR65

Updating Regulation References To Reflect Reorganizations at the Department of Justice and the Internal Revenue Service

Correction

In proposed document 2025-22825 beginning on page 57937 in the issue of Monday, December 15, 2025, make the following correction:

On page 57938, in the first column, under FOR FURTHER INFORMATION CONTACT, in the last line “publichearings@” should read “publichearings@irs.gov”.

[FR Doc. C1-2025-22825 Filed 2-12-26; 8:45 am]

BILLING CODE 1505-01-D